NUCLEAR REGULATORY COMMISSION

[Docket Nos. 50-352 and 50-353]

Exelon Generation Company, LLC; Notice of Withdrawal of Application for Amendments to Facility Operating Licenses

The U.S. Nuclear Regulatory Commission (the Commission) has granted the request of Exelon Generation Company, LLC, (the licensee) to withdraw its June 13, 2001, application for proposed amendments to Facility Operating License Nos. NPF-39 and NPF-85 for the Limerick Generating Station, Units 1 and 2, located in Montgomery County, Pennsylvania.

The proposed amendments would have modified the facility and the facility Technical Specifications by replacing the interim corrective actions for thermal-hydraulic power oscillations with an automatic reactor scram from the output of the oscillation power range monitor. However, by letter dated December 13, 2001, the licensee withdrew the proposed change.

For further details with respect to this action, see the application for amendment dated June 13, 2001, and the licensee's letter dated December 13, 2001, which withdrew the application for license amendments. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, 301-415-4737, or by e-mail to pdr@nrc.gov.

Dated at Rockville, Maryland, this 28th day of January 2002.
For the Nuclear Regulatory Commission.
Christopher Gratton,
Sr. Project Manager, Section 2, Project Directorate I, Division of Licensing Project Management, Office of Nuclear Reactor Regulation.

[FR Doc. 02-2498 Filed 1-31-02; 8:45 am]

BILLING CODE 7590-01-P